DEPARTMENT OF ENERGY

Federal Energy Regulatory Commission

[Docket No. RP03-360-001]

Transwestern Pipeline Company; Notice of Compliance Filing

June 5, 2003.

Take notice that on June 2, 2003, Transwestern Pipeline Company (Transwestern) tendered for filing as part of its FERC Gas Tariff, Second Revised Volume No. 1, the following tariff sheets to become effective July 1, 2003:

Substitute 7th Revised Sheet No. 50

10th Revised Sheet No. 95B.01

Substitute 9th Revised Sheet No. 95C

Original Sheet No. 95C.01

8th Revised Sheet No. 95D

Substitute 9th Revised Sheet No. 95E

10th Revised Sheet No. 95F

Transwestern states that on March 12, 2003, in Docket No. RM96-1-024, the Commission issued Order No. 587-R (Order 587-R), amending its open access regulations governing standards for conducting business with interstate pipelines. Transwestern states that Order 587-R required pipelines to make tariff filings by May 1, 2003 to implement provisions of that order to become effective on July 1, 2003. Transwestern explains that it submitted its compliance filing on April 30, 2003, and that on May 21, 2003, the Commission issued an Order accepting Transwestern's April 30, 2003 filing, subject to Transwestern filing revisions to the above tariff sheets within ten days of the May 21 Order. Transwestern states the instant filing reflects the revisions as directed by the Commission.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 16, 2003.

Magalie R. Salas,
Secretary.

[FR Doc. 03-14760 Filed 6-10-03; 8:45 am]

BILLING CODE 6717-01-P